Title 3—

The President

Proclamation 10806 of September 9, 2024

World Suicide Prevention Day, 2024

By the President of the United States of America

A Proclamation

On World Suicide Prevention Day, we honor the memories of all those lost to suicide, hold the loved ones grieving their memories close to our hearts, and recognize the many professionals working to end this public health problem.

Too many Americans have lost their lives to suicide. Last year, nearly 50,000 Americans died by suicide, and in 2022, over 10 million seriously considered suicide. In 2022, suicide was the second leading cause of death for young people aged 10 to 14 and 25 to 34, and the suicide rate for veterans was 50 percent higher than for anyone else. Suicide is also a leading cause of maternal death. Though there is no single cause or solution for suicide, we know that access to treatment and support can save lives. However, getting care in a crisis can be hard to access or afford. In 2021, less than half of all adults with mental illness received the care they needed. And nearly 70 percent of children who seek mental health care cannot find it.

A key part of my Unity Agenda is to connect more Americans to affordable, quality mental health care and strengthen our mental health care system—which will help address many of the risk factors associated with suicide. My Administration issued a rule that requires insurers to cover mental health care just as they do physical health care, and to make changes if required analyses show that health insurers are providing insufficient access to mental health care—an important step in ensuring people can get the mental health care they need. My American Rescue Plan provided over $12 billion to expand mental health and substance use services through States, communities, and schools. And when we passed the most significant gun safety law in nearly 30 years, we expanded the number of Certified Community Behavioral Health Clinics paid for under Medicaid, which deliver mental health treatment, including crisis care 24 hours a day to communities across the country. That law also delivered funding to put more psychologists and counselors in schools, and my Administration has made it easier for schools to use Medicaid to deliver mental health services—helping ease the youth mental health crisis and ensuring that our children can go on to live long, healthy lives. Further, I signed into law expansions to counseling, benefits, and mental health resources for law enforcement and first responders who have faced trauma at work. Earlier this year, my Administration released a new National Strategy for Suicide Prevention and Federal Action Plan which includes over 200 actions that will strengthen suicide prevention programs across the Nation, including those designed to reach our most vulnerable.

I have always said that we have a sacred obligation to care for our Nation's veterans and their families—and that means making sure they have access to the care they need to thrive. To help keep that promise, my Administration invested in mental health and suicide prevention efforts for our service members and veterans. We have expanded access to confidential treatment and are working to hire more mental health professionals, removing cost-sharing for the first three mental health visits, and investing in hiring more veterans to help their peers get the mental health care they need. And we are working to ensure that every veteran has a roof over their head—including by increasing access to permanent supportive housing for veterans and their families.

If you or a loved one are struggling, please know that you are not alone. My Administration launched 988, the National Suicide and Crisis Lifeline to quickly connect people with the support they need. Call or text 988 to reach a trained crisis counselor for free, confidential support right away. We also established the National Maternal Mental Health Hotline for new and expectant mothers. Call 1-833-TLC-MAMA (1-833-852-6262) for help navigating mental health issues like postpartum depression and anxiety before, during, or after pregnancy. For non-crisis support or to find help for mental health and substance use, visit FindSupport.gov or call 1-800-662-HELP (1-800-662-4357).

During World Suicide Prevention Day, we recommit to improving suicide prevention programs and putting affordable, accessible mental health care within reach of communities across our Nation—for all the lives we have lost and all those we can still save.

NOW, THEREFORE, I, JOSEPH R. BIDEN JR., President of the United States of America, by virtue of the authority vested in me by the Constitution and the laws of the United States, do hereby proclaim September 10, 2024, as World Suicide Prevention Day. I call upon all Americans, communities, organizations, and levels of government to join me in creating hope through action and committing to preventing suicide across America.

IN WITNESS WHEREOF, I have hereunto set my hand this ninth day of September, in the year of our Lord two thousand twenty-four, and of the Independence of the United States of America the two hundred and forty-ninth.

[FR Doc. 2024-20836

Filed 9-11-24; 8:45 am]

Billing code 3395-F4-P